DEPARTMENT OF LABOR

Employment and Training Administration

[TA-W-58,500]

American Greetings, Lafayette, TN; Notice of Termination of Investigation

Pursuant to section 221 of the Trade Act of 1974, as amended, an investigation was initiated on December 13, 2005 in response to a petition filed by a company official on behalf of workers at American Greetings, Lafayette, Tennessee.

The petitioner has requested that the petition be withdrawn. Consequently, the investigation has been terminated.

Signed at Washington, DC this 12th day of January 2006.
Richard Church,
Certifying Officer, Division of Trade Adjustment Assistance.

[FR Doc. E6-1140 Filed 1-27-06; 8:45 am]

BILLING CODE 4510-30-P